DEPARTMENT OF AGRICULTURE

Rural Business-Cooperative Service

Rural Housing Service

Rural Utilities Service

[Docket No. RBS-20-BUSINESS-0040]

Notice of Solicitation of Applications (NOSA) for the Strategic Economic and Community Development Program for Fiscal Year (FY) 2021; Correction

AGENCY: Rural Business-Cooperative Service, Rural Housing Service, and Rural Utilities Service, USDA.

ACTION: Notice; correction.

SUMMARY: The Rural Business-Cooperative Service, Rural Housing Service, and Rural Utilities Service, agencies that comprise the Rural Development Mission Area within the United States Department of Agriculture, published a notice of solicitation of applications in the Federal Register on January 11, 2021, entitled “Notice of Solicitation of Applications (NOSA) for the Strategic Economic and Community Development Program for Fiscal Year (FY) 2021.” The NOSA provides requirements to applicants submitting applications for programs that have been prioritized by the Secretary of Agriculture for Strategic Economic and Community Development funding. Contrary to what was published in the NOSA, this Correction Notice (Correction) is being issued to clarify that Strategic Economic and Community Development priority funding will not be set aside for the Community Connect Grant Program in FY 2021.

FOR FURTHER INFORMATION CONTACT: Greg Batson, Rural Development Innovation Center, U.S. Department of Agriculture, Stop 0793, 1400 Independence Avenue SW, Washington, DC 20250-0783, Telephone: (573) 239-2945. Email: gregory.batson@usda.gov.

SUPPLEMENTARY INFORMATION:

Correction

In FR Doc 2021-00234 of January 11, 2021 (86 FR 1918), make the following corrections of references in the NOSA to “Community Connect,” “Community Connect Grant,” and “Community Connect Grant Program” are being removed by this Correction:

(1) On page 1919, in column 2, on lines 16 and 17, remove “Community Connect Grant; see 7 CFR part 1739;”

(2) On page 1919, in column 2, under section II. “Award Information,” in the table, remove “Community Connect 10;” and

(3) On page 1919, in column 2, on lines 4 and 5 under the subheading “Award Dates” in section II. “Award Information,” remove “Community Connect Grant Program.”

Christopher A. McLean,
Acting Deputy Under Secretary, Rural Development.

[FR Doc. 2021-04440 Filed 3-3-21; 8:45 am]

BILLING CODE 3410-XY-P